DEPARTMENT OF HEALTH AND HUMAN SERVICES

National Institutes of Health

Notice of Public Meeting: Seeking Comments on Implementation of the NIH Public Access Policy

AGENCY: The National Institutes of Health (NIH) of the U.S. Department of Health and Human Services (HHS).

ACTION: Notice.

SUMMARY: With this notice, the National Institutes of Health (NIH) of the U.S. Department of Health and Human Services (HHS) announces the following public meeting and seeks public comment regarding implementation of the NIH Revised Policy on Enhancing Public Access to Archived Publications Resulting From NIH-Funded Research. The policy and supporting materials can be found at http://publicaccess.nih.gov. Comments may be submitted in advance of the meeting to NIH Public Access staff at http://publicaccess.nih.gov/comments/comments.htm. All comments for consideration at the meeting must be received on or before March 17, 2008. In addition, NIH advises that it will publish in the Federal Register in March 2008 a notice of availability of a Request for Information (RFI) asking for comments about its Public Access Policy (Policy) and the effectiveness of the Policy's implementation.

Public Meeting Time and Date: 10 a.m.-4:30 p.m., Thursday, March 20, 2008.

Location: Main Auditorium, NIH Natcher Conference Center, 9000 Rockville Pike, Building 45, Bethesda, Maryland 20892.

Background: The National Institutes of Health (NIH)—The Nation's Medical Research Agency—is comprised of 27 Institutes and Centers and is a component of the U.S. Department of Health and Human Services. It is the primary Federal agency for conducting and supporting basic, clinical, and translational medical research, and investigates the causes, treatments, and cures for both common and rare diseases. For more information about NIH and its programs, visit http://www.nih.gov.

The NIH Public Access Policy implements Division G, Title II, Section 218 of Public Law 110-161 (Consolidated Appropriations Act, 2008) which states:

SEC. 218. The Director of the National Institutes of Health shall require that all investigators funded by the NIH submit or have submitted for them to the National Library of Medicine's PubMed Central an electronic version of their final, peer-reviewed manuscripts upon acceptance for publication, to be made publicly available no later than 12 months after the official date of publication: Provided, That the NIH shall implement the public access policy in a manner consistent with copyright law.

As described in NIH Guide for Grants and Contracts (NOT-OD-08-033 available at http://grants.nih.gov/grants/guide/notice-files/NOT-OD-08-033.html), as of April 7, 2008, applicable articles arising from NIH funds must be submitted to PubMed Central upon acceptance for publication. As of May 25, 2008, NIH applications, proposals, and progress reports must include the PMC reference number when citing an article that falls under the policy. This policy includes applications submitted to the NIH for the May 25, 2008 due date and subsequent due dates.

Request for Comments: The purpose of the Thursday, March 20, 2008 meeting is to seek comment from the public on implementation of the NIH Public Access Policy. The meeting is open to everyone, including NIH-funded researchers, representatives of universities and other NIH grantee organizations, publishers (including commercial organizations, professional societies and journal editors), patients and public health advocates, and members of the public.

• NIH desires broad participation and comment. NIH is particularly interested in obtaining information on its Public Access Policy and the effectiveness of the Policy's implementation.

This meeting is open to the public. For space planning purposes, all participants are requested to register for the meeting at http://publicaccess.nih.gov/comments/registration.htm. The public may also view the meeting via live videocast. Videocast details will be posted to http://publicaccess.nih.gov by March 17, 2008.

Individuals, groups, and organizations interested in submitting written comments on the NIH policy for consideration at the meeting should direct their comments to the following NIH Web site: http://publicaccess.nih.gov/comments/comments.htm. Such written comments should be submitted prior to March 17, 2008. All submitted comments are considered public and will be made available through the NIH Public Access site. In addition, as set forth below, NIH will provide another opportunity for submission of comments, by issuing a Request for Information on the Public Access Policy.

Agenda and selection of speakers: An agenda for the meeting will be posted to http://publicaccess.nih.gov/comments.htm by March 17, 2008. Individuals wishing to present comments at the meeting can sign up to do so during the registration period at the start of the meeting. An estimated total of 30-40 comments will be presented.

Report and Subsequent Request for Information and Public Comment: In addition to this March 20th stakeholders meeting, in March 2008 NIH will publish in the Federal Register a notice of availability of a Request for Information (RFI) asking for comments about its Public Access Policy (Policy) and the effectiveness of the Policy's implementation. The RFI will solicit public comments for 60 days. The NIH plans to respond to the comments and announce any amendments to its Policy within 120 days of the end of the comment period.

Contact Person for Information: Questions concerning the meeting may be addressed to: Neil M. Thakur, PhD, Special Assistant to the NIH Deputy Director for Extramural Research, Building 1, Room 134, Bethesda, MD 20892, Telephone 301-496-1096, Fax 301-402-3469, PublicAccessComments@NIH.gov.

Dated: March 5, 2008.
Norka Ruiz Bravo,
Deputy Director for Extramural Research, NIH Office of Extramural Research, National Institutes of Health.

[FR Doc. E8-4676 Filed 3-7-08; 8:45 am]

BILLING CODE 4140-01-P